NUCLEAR REGULATORY COMMISSION

Regulatory Guide Update Prioritization

AGENCY: U.S. Nuclear Regulatory Commission.

ACTION: Regulatory guide update prioritization.

SUMMARY: The U.S. Nuclear Regulatory Commission (NRC) is currently reviewing and updating numerous guides in the agency’s Regulatory Guide (RG) Series. This series has been developed to describe and make available to the public methods that are acceptable to the NRC staff for implementing specific parts of the NRC’s regulations, techniques that the staff uses in evaluating specific problems or postulated accidents, and data that the staff needs in its review of applications for license amendments, permits, and licenses. The purpose of the ongoing review and update of the NRC’s RGs is to ensure that the RGs contain complete, accurate, and current guidance for use by licensees and prospective applicants. The established regulatory guidance (as set forth in establishing new and revised RGs) provides a consistent approach for the staff to ensure that the regulatory requirements are met and thereby continue to protect the health and safety of the public and the environment.

The NRC reviewed all of the approximately 480 RGs and draft RGs (DGs) to determine those that needed to be revised or developed. This resulted in categorizing the RGs and DGs into five groups. The first group contains approximately 30 RGs that needed to be revised or developed by March 2007 to support anticipated new reactor licensing activities later this year. The second group includes RGs that are planned to be revised or developed, and published by December 2008. The third group contains RGs that are planned to be revised or developed, and published by December 2009. The fourth group includes RGs that will be considered for withdrawal. The fifth group contains all remaining RGs that are not planned to be updated by December 2009.

The lists of RGs for each of these five groups, including publication schedules and public comment periods, can be found at the NRC’s Electronic Reading Room on the agency’s public Web site at http://www.nrc.gov/reading-rm/doc-collections/reg-guides/ and in the Agencywide Document Access and Management System (ADAMS) at ML071230154. The RG status information on the NRC’s Web site will be updated periodically.

Discussion: Through the years, the NRC has established 10 broad divisions of RGs. RGs in all 10 divisions were considered for updating under this program. The RG divisions can be found at the NRC’s Electronic Reading Room on the agency's public Web site at www.nrc.gov/reading-rm/doc-collections/reg-guides/ and are as follows:

• Division 1, Power Reactors

• Division 2, Research and Test Reactors

• Division 3, Fuels and Materials Facilities

• Division 4, Environmental and Siting

• Division 5, Materials and Plant Protection

• Division 6, Products

• Division 7, Transportation

• Division 8, Occupational Health

• Division 9, Antitrust and Financial Review

• Division 10, General

Solicitation of Comments and Dates: The NRC is soliciting comments on the NRC’s proposed prioritization of the groups 2, 3, 4 and 5 RGs. Specifically, comments are solicited for the following questions. Each comment should include supporting basis or rationale to enable the staff to fully understand the point of view being provided.

1. Which, if any, RGs identified as group 3 need to be developed or revised sooner, and thus, should be in group 2?

2. Which, if any, RGs identified as group 2 should not be developed or revised until after some other action is taken, and thus, should be in group 3?

3. Which, if any, RGs identified as groups 2, 3 and 5 are no longer useful or the guidelines are adequately addressed elsewhere and should be withdrawn (added to group 4)? (If the guidelines are addressed elsewhere, please state specifically where they are located.)

4. Which, if any, RGs that are not identified as group 2 or 3 need to be developed or revised by December 2009? (Please include specific reasons.)

5. Which, if any, RGs identified in group 4 should not be considered for withdrawal? (Please provide specific examples which demonstrate the need to maintain the RG.)

Comments are requested within 30 days from the date of this Federal Register notice. The list of the RGs in each group and by division can be found at the NRC’s Electronic Reading Room on the agency’s public Web site at http://www.nrc.gov/reading-rm/doc-collections/reg-guides/. The RG status information on the NRC’s Web site will be updated periodically.

Comment Procedures: Comments should be accompanied by relevant information or supporting data. Please mention RG Prioritization in the subject line of your comments. Comments submitted in writing or in electronic form will be made available to the public in their entirety through the NRC’s ADAMS. Personal information will not be removed from your comments. You may submit comments by any one of the following methods:

• Mail comments to Rulemaking, Directives and Editing Branch, Office of Administration, U.S. Nuclear Regulatory Commission, Washington, DC 20555-0001 (MS T-6 D59).

• Hand-deliver comments to Rulemaking, Directives and Editing Branch, Office of Administration, U.S. Nuclear Regulatory Commission, 11555 Rockville Pike, Rockville, Maryland 20852, between 7:30 a.m. and 4:15 p.m. on Federal workdays.

• Fax comments to Rulemaking, Directives and Editing Branch, Office of Administration, U.S. Nuclear Regulatory Commission, at (301) 415-5144.

• E-mail comments to NRCREP@nrc.gov.

• Submit comments via the NRC’s rulemaking Web site at http://ruleforum.llnl.gov.

Contact Information: Comments and questions about our rulemaking website should be addressed to Carol A. Gallagher at (301) 415-5905 or by e-mail to CAG@nrc.gov. Contact information for use in submitting comments is provided in the section on Comment Procedures. Comments or questions about the NRC’s revision of regulatory guides should be addressed to Jimi T. Yerokun at (301) 415-0585 or by e-mail to JTY@nrc.gov.

Dated at Rockville, Maryland, this 10th day of May, 2007.
For the U.S. Nuclear Regulatory Commission.
Farouk Eltawila,
Director, Division of Risk Assessment and Special Projects, Office of Nuclear Regulatory Research.

[FR Doc. E7-9658 Filed 5-17-07; 8:45 am]

BILLING CODE 7590-01-P